DEPARTMENT OF ENERGY

Energy Information Administration

Agency Information Collection Activities: Submission for OMB Review; Comment Request

AGENCY: Energy Information Administration (EIA), Department of Energy (DOE).

ACTION: Agency information collection activities: submission for OMB review; comment request.

SUMMARY: The EIA has submitted the Petroleum Marketing Program Surveys to the Office of Management and Budget (OMB) for review and a three-year extension with revisions under section 3507(h)(1) of the Paperwork Reduction Act of 1995 (Pub. L. 104-13) (44 U.S.C. 3501 et seq.).

DATES: Comments must be filed by October 14, 2003. If you anticipate that you will be submitting comments but find it difficult to do so within that period, you should contact the OMB Desk Officer for DOE listed below as soon as possible.

ADDRESSES: Send comments to OMB Desk Officer for DOE, Office of Information and Regulatory Affairs, Office of Management and Budget. To ensure receipt of the comments by the due date, submission by FAX (202-395-7285) or e-mail (BAllen@omb.eop.gov) is recommended. The mailing address is 726 Jackson Place NW., Washington, DC 20503. The OMB DOE Desk Officer may be telephoned at (202) 395-3087. (A copy of your comments should also be provided to EIA's Statistics and Methods Group at the address below.)

FOR FURTHER INFORMATION CONTACT: Requests for additional information should be directed to Herbert Miller. To ensure receipt of the comments by the due date, submission by FAX (202-287-1705) or e-mail (herbert.miller@eia.doe.gov) is recommended. The mailing address is Statistics and Methods Group (EI-70), Forrestal Building, U.S. Department of Energy, Washington, DC 20585-0670. Mr. Miller may be contacted by telephone at (202) 287-1711.

SUPPLEMENTARY INFORMATION: This section contains the following information about the energy information collection submitted to OMB for review: (1) The collection numbers and title; (2) the sponsor (i.e., the Department of Energy component); (3) the current OMB docket number (if applicable); (4) the type of request (i.e., new, revision, extension, or reinstatement); (5) response obligation (i.e., mandatory, voluntary, or required to obtain or retain benefits); (6) a description of the need for and proposed use of the information; (7) a categorical description of the likely respondents; and (8) an estimate of the total annual reporting burden (i.e., the estimated number of likely respondents times the proposed frequency of response per year times the average hours per response).

1. Petroleum Marketing Program Surveys—EIA-14, “Refiners” Monthly Cost Report'; EIA-182, “Domestic Crude Oil First Purchase Report'; EIA-782A, “Refiners'/ Gas Plant Operators” Monthly Petroleum Product Sales Report'; EIA-782B, “Resellers'/Retailers” Monthly Petroleum Product Sales Report'; EIA-782C, “Monthly Report of Petroleum Products Sold Into States for Consumption'; EIA-821, “Annual Fuel Oil and Kerosene Sales Report'; EIA-856, “Monthly Foreign Crude Oil Acquisition Report'; EIA-863, “Petroleum Product Sales Identification Survey'; EIA-877, “Winter Heating Fuels Telephone Survey'; EIA-878, “Motor Gasoline Price Survey'; and EIA-888, “On-Highway Diesel Fuel Price Survey.”

2. Energy Information Administration.

3. OMB Number 1905-0174.

4. Revision.

5. Mandatory.

6. The Petroleum Marketing Program Surveys collect information on costs, sales, prices, and distribution for crude oil and petroleum products. Data are published in petroleum publications and in multi-fuel reports. Respondents are refiners, first purchasers of domestic crude oil, gas plant operators, resellers/retailers, motor gasoline wholesalers, suppliers, distributors and importers.

On March 25, 2003, EIA issued a Federal Register notice soliciting comments on these surveys. Since that time, EIA has decided to collect the information reported on the Forms EIA-863, EIA-878, and EIA-888 as confidential in accordance with the Confidential Information Protection and Statistical Efficiency Act of 2002 (Title V of Public Law 107-347). In accordance with CIPSEA, the information would be used exclusively for statistical purposes.

7. Business or other for-profit.

8. 122,534 hours (15,373 respondents times x 7.4 responses per year times 1.07 hours per response).

Please refer to the supporting statement as well as the proposed forms and instructions for more information about the purpose, who must report, when to report, where to submit, the elements to be reported, detailed instructions, provisions for confidentiality, and uses (including possible nonstatistical uses) of the information. For instructions on obtaining materials, see the FOR FURTHER INFORMATION CONTACT section.

Statutory Authority: Section 3507(h)(1) of the Paperwork Reduction Act of 1995 (Pub. L. 104-13) (44 U.S.C. 3501 et seq.).

Issued in Washington, DC, September 4, 2003.
Jay H. Casselberry,
Agency Clearance Officer, Statistics and Methods Group, Energy Information Administration.

[FR Doc. 03-23168 Filed 9-10-03; 8:45 am]

BILLING CODE 6450-01-P